NEIGHBORHOOD REINVESTMENT CORPORATION

Regular Board of Directors Meeting; Sunshine Act

Time and Date: 2 p.m., Tuesday, September 1 2009.

Place: 1325 G Street NW., Suite 800, Boardroom, Washington DC 20005.

Status: Open.

Contact Person for More Information: Erica Hall, Assistant Corporate Secretary, (202) 220-2376; ehall@nw.org.

Agenda:

I. Call to Order.

II. Approval of the Minutes.

III. Summary Report of the Finance, Budget and Program Committee.

IV. Financial Report.

V. Corporate Scorecard.

VI. Chief Executive Officer's Quarterly Management Report.

VII. Adjournment.

Erica Hall,
Assistant Corporate Secretary.

[FR Doc. E9-21126 Filed 8-28-09; 11:15 am]

BILLING CODE 7570-02-P